FEDERAL COMMUNICATIONS COMMISSION

[DA 01-517]

Consumer/Disability Telecommunications Advisory Committee

AGENCY: Federal Communications Commission.

ACTION: Notice; correction.

SUMMARY: The Federal Communications Commission published in the Federal Register on March 5, 2001 (66 FR 13317), a Notice concerning the date, time, location and agenda for the first meeting of the FCC's Consumer/Disability Telecommunications Advisory Committee. The Notice also listed the chairperson and members of the Committee. The list of Committee members contained errors and is reprinted correctly.

FOR FURTHER INFORMATION CONTACT: Scott Marshall, Designated Federal Officer, 202-418-2809 (voice) or 202-418-0179 (TTY). Email: cdtac@fcc.gov.

Correction

In the Federal Register of March 5, 2001, FR Doc. 01-5228, on page 13318, in the second and third columns, the complete list of the Committee's membership is corrected to read as follows:

Committee Membership

Designated Federal Officer

Scott Marshall

Organizations

AARP

Alliance for Public Technology

American Council for the Blind

AT&T

Call For Action

Cellular Telecommunications & Internet Association

Cingular Wireless, LLC

Communication Service for the Deaf

ConnectBid LLC

Consumer Action

Ericsson Inc.

Gallaudet University

Gila River Telecommunications, Inc.

Hewlett-Packard Company

IDEAL at NCR

Inclusive Technologies

Information Technology Technical Assistance and Training Center

Microsoft Corporation

Mitsubishi Electric America Foundation

National Association of Broadcasters

National Association of State Relay Administration

National Cable Television Association

National Consumers League

National Urban League

Nokia

Qwest Communciations International, Inc.

Rainbow/PUSH Coalition and Citizenship Education Fund

San Carlos Apache Tribe, Health and Human Services

Self Help for Hard of Hearing People

Smithsonian Center for Latino Initiatives

Sprint Corporation

Telecommunication Industry Association

Telecommunications Research & Action Center

TRIPOD Captioned Films

Verizon Communications

WGBH National Center for Accessible Media

Wynd Communications Corporation

Individuals

Shelley Nixon

Kathleen O'Reilly

Bob Segalman

Federal Communications Commission.
Karen Peltz Strauss,
Deputy Bureau Chief, Consumer Information Bureau.

[FR Doc. 01-6817 Filed 3-19-01; 8:45 am]

BILLING CODE 6712-01-P